DEPARTMENT OF COMMERCE

International Trade Administration

[A-570-831]

Fresh Garlic From the People's Republic of China: Notice of Extension of Time Limit for the Preliminary Results of New Shipper Reviews

AGENCY: Import Administration, International Trade Administration, Department of Commerce.

ACTION: Notice of extension of time limit for the preliminary results of new shipper reviews.

SUMMARY: The Department of Commerce is extending the time limit for the preliminary results of new shipper reviews of the antidumping duty order on fresh garlic from the People's Republic of China until April 25, 2004. This extension applies to the new shipper reviews of the following seven exporters: Linyi Sanshan Import & Export Trading Co., Ltd., Sunny Import & Export Limited, Linshu Dading Private Agricultural Products Co., Ltd., Tancheng County Dexing Foods Co., Ltd., Jinxiang Dong Yun Freezing Storage Co., Ltd., Shanghai Ever Rich Trade Company, and Taian Ziyang Food Co., Ltd. The period of review is November 1, 2002, through April 30, 2003.

EFFECTIVE DATE: December 19, 2003.

FOR FURTHER INFORMATION CONTACT: Brian Ellman or Minoo Hatten, AD/CVD Enforcement 3, Import Administration, International Trade Administration, U.S. Department of Commerce, 14th Street and Constitution Avenue, NW., Washington, DC 20230; telephone: (202) 482-4852 and (202) 482-1690, respectively.

SUPPLEMENTARY INFORMATION:

Background

On July 7, 2003, the Department of Commerce (the Department) announced the initiation of the new shipper reviews for seven companies. See Notice of Initiation of New Shipper Antidumping Duty Reviews: Fresh Garlic from the People's Republic of China, 68 FR 40242.

The Tariff Act of 1930, as amended (the Act), at section 751(a)(2)(B)(iv) provides that the Department will issue the preliminary results of a new shipper review of an antidumping duty order within 180 days after the date on which the new shipper review was initiated. The Act also provides that the Department may extend that 180-day period to 300 days if it concludes that the new shipper review is extraordinarily complicated. See also 19 CFR 351.214(i).

The Department has determined that the new shipper reviews are extraordinarily complicated and that it is not practicable to complete the preliminary results by the current deadline of December 27, 2003. There are a number of complex factual and legal questions related to the calculation of the antidumping margins in the new shipper reviews, in particular the analysis of the bona fides of the sales at issue and the valuation of the factors of production. We require additional time to issue supplemental questionnaires addressing these matters, review the responses, and verify certain information. Therefore, in accordance with 19 CFR 351.214(i)(2), the Department is extending the time limit for the preliminary results by 120 days to April 25, 2004.

We are issuing and publishing this notice in accordance with sections 751(a)(2)(B) and 777(i) of the Act and 19 CFR 351.214(i).

Dated: December 15, 2003.
Jeffrey May,
Deputy Assistant Secretary for AD/CVD Enforcement I.

[FR Doc. E3-00594 Filed 12-18-03; 8:45 am]

BILLING CODE 3510-DS-S